INTERNATIONAL TRADE COMMISSION

[USITC SE-10-027]

Government in the Sunshine Act Meeting Notice

AGENCY HOLDING THE MEETING: United States International Trade Commission.

TIME AND DATE: September 20, 2010 at 1 p.m.

PLACE: Room 101, 500 E Street, SW., Washington, DC 20436, Telephone: (202) 205-2000.

STATUS: Open to the public.

MATTERS TO BE CONSIDERED: 1. Agenda for future meetings: none.

2. Minutes.

3. Ratification List.

4. Inv. No. 731-TA-125 (Third Review) (Potassium Permanganate from China)—briefing and vote. (The Commission is currently scheduled to transmit its determination and Commissioners' opinions to the Secretary of Commerce on or before September 30, 2010.)

5. Inv. Nos. 731-TA-1082 and 1083 (Review)(Chlorinated Isocyanurates from China and Spain)—briefing and vote. (The Commission is currently scheduled to transmit its determinations and Commissioners' opinions to the Secretary of Commerce on or before September 30, 2010.)

6. Outstanding action jackets: none.

In accordance with Commission policy, subject matter listed above, not disposed of at the scheduled meeting, may be carried over to the agenda of the following meeting.

By order of the Commission.
Issued: September 10, 2010.
William R. Bishop,
Hearings and Meetings Coordinator.

[FR Doc. 2010-23055 Filed 9-10-10; 4:15 pm]

BILLING CODE 7020-02-P